FEDERAL RETIREMENT THRIFT INVESTMENT BOARD

Sunshine Act; Notice of Meeting July 24, 2018, Telephonic, 12:00 p.m., 10th Floor Board Meeting Room, 77 K Street NE, Washington, DC 20002

Agenda

Federal Retirement Thrift Investment Board Member Meeting Status: All parts will be open to the public.

Matters To Be Considered:

Open Session

1. Approval of the Minutes for the June 25, 2018 Board Member Meeting

2. Monthly Reports

(a) Participant Activity

(b) Legislative Report

3. Quarterly Reports

(c) Investment Performance

(d) Budget Review

(e) Audit Status

4. Enterprise Risk Management Update

5. IT Update

Contact Person For More Information: Kimberly Weaver, Director, Office of External Affairs, (202) 942-1640.

Dated: July 16, 2018.
Dharmesh Vashee,
Deputy General Counsel, Federal Retirement Thrift Investment Board.

[FR Doc. 2018-15433 Filed 7-16-18; 4:15 pm]

BILLING CODE 6760-01-P